FEDERAL MARITIME COMMISSION

Ocean Transportation Intermediary License Revocations

The Commission gives notice that the following Ocean Transportation Intermediary licenses have been revoked pursuant to section 40901 of the Shipping Act of 1984 (46 U.S.C. 40101) effective on the date shown.

License No.: 002391F.

Name: Silva, Leonel dba Best Forwarders.

Address: 411 North Oak Street, Inglewood, CA 90302.

Date Revoked: July 27, 2012.

Reason: Failed to maintain a valid bond.

License No.: 003180NF.

Name: Seajet Express Inc. dba Seajet Express Container Line Ltd. dba Gateway Container Line.

Address: 46 Arlington Street, Chelsea, MA 02150.

Date Revoked: July 5, 2012.

Reason: Voluntary surrender of license.

License No.: 004638F.

Name: Fits Limited Liability Company.

Address: 3702 Wildwood Ridge Drive, Kingwood, TX 77339.

Date Revoked: July 20, 2012.

Reason: Failed to maintain a valid bond.

License No.: 009709N.

Name: Zonn Agency.

Address: 1335 Oakhurst Avenue, Los Altos, CA 94024.

Date Revoked: August 1, 2012.

Reason: Voluntary surrender of license.

License No.: 12454N.

Name: Federation Exports-Imports Inc.

Address: 747 Glasgow Avenue, Unit 1, Inglewood, CA 90301.

Date Revoked: July 9, 2012.

Reason: Voluntary surrender of license.

License No.: 014040N.

Name: Gulf South Forest Products, Inc.

Address: 3038 North Federal Highway, Building L, Fort Lauderdale, FL 33306

Date Revoked: July 28, 2012.

Reason: Failed to maintain a valid bond.

License No.: 014807N.

Name: Ape Freight International Inc.

Address: 167-10 South Conduit Avenue, Suite 202, Jamaica, NY 11434

Date Revoked: July 9, 2012.

Reason: Failed to maintain a valid bond.

License No.: 015255F.

Name: Triways Shipping Lines, Inc.

Address: 11938 S. La Cienega Blvd., Hawthorne, CA 90250.

Date Revoked: July 18, 2012.

Reason: Failed to maintain a valid bond.

License No.: 017524F.

Name: Natco International Transports USA, L.L.C.

Address: 12415 SW 136th Avenue, Bay 4, Miami, FL 33186

Date Revoked: July 1, 2012.

Reason: Failed to maintain a valid bond.

License No.: 017994NF.

Name: Standard Overseas, Inc.

Address: 8616 La Tijera Blvd., Suite #500, Los Angeles, CA 90045

Date Revoked: July 25, 2012.

Reason: Failed to maintain valid bonds.

License No.: 018629NF.

Name: Zust Bachmeier International, Inc. dba Z Lines.

Address: 6201 Rankin Road, Humble, TX 77396.

Date Revoked: July 5, 2012.

Reason: Voluntary surrender of license.

License No.: 019986N.

Name: Evox Logistics, Inc.

Address: 700 El Tesorito, South Pasadena, CA 91030-4224.

Date Revoked: July 9, 2012.

Reason: Voluntary surrender of license.

License No.: 021706N.

Name: Unity Vanlines, Inc.

Address: 455 Barell Avenue, Carlstadt, NJ 07072.

Date Revoked: July 19, 2012.

Reason: Failed to maintain a valid bond.

License No.: 022748NF.

Name: Transglad, Inc.

Address: 525 Neptune Avenue, Suite 20G, Brooklyn, NY 11224.

Date Revoked: July 12, 2012.

Reason: Voluntary surrender of license.

License No.: 022773F.

Name: WLI (USA) Inc.

Address: 175-01 Rockaway Blvd., Suite 228, Jamaica, NY 11434.

Date Revoked: July 15, 2012.

Reason: Failed to maintain a valid bond.

License No.: 022992N.

Name: Westwind Shipping and Logistics, Inc.

Address: 38 West 32nd Street, Suite 1309-B, New York, NY 10001

Date Revoked: July 7, 2012.

Reason: Failed to maintain a valid bond.

Vern W. Hill,
Director, Bureau of Certification and Licensing.

[FR Doc. 2012-19409 Filed 8-7-12; 8:45 am]

BILLING CODE 6730-01-P